DEPARTMENT OF JUSTICE

Antitrust Division

Notice Pursuant to the National Cooper, Ative Research and Production Act of 1993—Vehicle Safety Communications 5 Consortium

Notice is hereby given that, on June 29, 2017, pursuant to Section 6(a) of the National Cooperative Research and Production Act of 1993, 15 U.S.C. 4301 et seq. (“the Act”), Vehicle Safety Communications 5 Consortium (“VSC5 Consortium”) has filed written notifications simultaneously with the Attorney General and the Federal Trade Commission disclosing changes in its membership. The notifications were filed for the purpose of extending the Act's provisions limiting the recovery of antitrust plaintiffs to actual damages under specified circumstances. Specifically, Mercedes-Benz Research & Development North America, Inc., Sunnyvale, CA, has withdrawn as a party to this venture.

No other changes have been made in either the membership or planned activity of the group research project. Membership in this group research project remains open, and VSC5 Consortium intends to file additional written notifications disclosing all changes in membership.

On December 3, 2014, VSC5 Consortium filed its original notification pursuant to Section 6(a) of the Act. The Department of Justice published a notice in the Federal Register pursuant to Section 6(b) of the Act on December 31, 2014 (79 FR 78909).

Patricia A. Brink,
Director of Civil Enforcement,Antitrust Division.

[FR Doc. 2017-16049 Filed 8-1-17; 8:45 am]

BILLING CODE P